DEPARTMENT OF COMMERCE

National Oceanic and Atmospheric Administration

RIN 0648-XC556

North Pacific Fishery Management Council; Public Meeting

AGENCY: National Marine Fisheries Service (NMFS), National Oceanic and Atmospheric Administration (NOAA), Commerce.

ACTION: Notice of public meetings.

SUMMARY: The North Pacific Fishery Management Council (Council) Observer Advisory Committee (OAC) will meet in Anchorage, AK.

DATES: The meeting will be held on April 1, 2013, from 3 p.m. to 8 p.m.

ADDRESSES: The meeting will be held at the Anchorage Hilton Hotel, Dillingham/Katmai Room, 500 West 3rd Avenue, Anchorage, AK.

Council address: North Pacific Fishery Management Council, 605 W. 4th Ave., Suite 306, Anchorage, AK 99501-2252.

FOR FURTHER INFORMATION CONTACT: Diana Evans, Council staff, telephone: (907) 271-2809.

SUPPLEMENTARY INFORMATION: The agenda items include: receive an update on the implementation of the Observer Program for the current year; receive an update on national electronic monitoring (EM) initiatives; and review an outline of the EM strategic plan that the Alaska Fishery Science Center is developing, and provide comments and recommendations to the Council.

The Agenda is subject to change, and the latest version will be posted at http://www.alaskafisheries.noaa.gov/npfmc/.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: March 12, 2013.
Tracey L. Thompson,
Acting Deputy Director, Office of Sustainable Fisheries, National Marine Fisheries Service.

[FR Doc. 2013-06099 Filed 3-15-13; 8:45 am]

BILLING CODE 3510-22-P